DEPARTMENT OF HEALTH AND HUMAN SERVICES

Meeting of the Chronic Fatigue Syndrome Advisory Committee

AGENCY: Department of Health and Human Services, Office of the Secretary, Office of the Assistant Secretary for Health.

ACTION: Notice.

SUMMARY: As stipulated by the Federal Advisory Committee Act, the U.S. Department of Health and Human Services (DHHS) is hereby giving notice that a meeting of the Chronic Fatigue Syndrome Advisory Committee (CFSAC) will take place via conference call. This call will be open to the public. Individuals who want to make public comments should send their request to cfsac@hhs.gov, by January 7, 2015.

DATES: The CFSAC conference call will be held on Tuesday, January 13, 2015, from 1:00 p.m. until 3:00 p.m. (ET).

ADDRESSES: The meeting will be conducted via conference call.

FOR FURTHER INFORMATION CONTACT: Barbara F. James, Designated Federal Officer, Chronic Fatigue Syndrome Advisory Committee, Department of Health and Human Services, Office on Women's Health, 200 Independence Avenue SW., Room 728F.3, Washington, DC 20201. Phone: 202-690-7650; Fax: 202-401-4005; Email: cfsac@hhs.gov.

SUPPLEMENTARY INFORMATION: The CFSAC is authorized under 42 U.S.C. 217a, Section 222 of the Public Health Service Act, as amended. The purpose of the CFSAC is to provide advice and recommendations to the Secretary of Health and Human Services (HHS), through the Assistant Secretary for Health (ASH), on issues related to myalgic encephalomyelitis/chronic fatigue syndrome (ME/CFS). The issues can include factors affecting access and care for persons with ME/CFS; the science and definition of ME/CFS; and broader public health, clinical, research, and educational issues related to ME/CFS.

The agenda for this meeting and call-in information will be posted on the CFSAC Web site http://www.hhs.gov/advcomcfs/index.html.

Thirty minutes of oral public comment will be scheduled for this conference call. Individuals will have three minutes to present their comments. Priority will be given to individuals who have not provided public comment within the previous year. We are unable to place international calls for public comments.

Only testimony submitted for public comment and received by January 7, 2015, will be part of the official meeting record and posted to the CFSAC Web site. Materials submitted should not include sensitive personal information, such as social security number, birthdates, driver's license number, state identification or foreign country equivalent, passport number, financial account number, or credit or debit card number. If you wish to remain anonymous the document must specify this.

The Committee welcomes input from anyone who wishes to provide public comment on any topic being addressed by the Committee. However, the Committee is particularly interested in receiving comments during the upcoming meeting on the draft report from the National Institute of Health's Pathways to Myalgic Encephalomyelitis/Chronic Fatigue Syndrome meeting.

Dated: December 18, 2014.
Barbara F. James,
Designated Federal Officer, Chronic Fatigue Syndrome Advisory Committee, U.S. Department of Health and Human Services.

[FR Doc. 2014-30237 Filed 12-23-14; 8:45 am]

BILLING CODE 4150-42-P